DEPARTMENT OF HOMELAND SECURITY

U.S. Customs and Border Protection

U.S. Customs and Border Protection Trade Symposium 2009: “10 Year Anniversary: A Decade of Progress in Partnership”

AGENCY: Customs and Border Protection, DHS.

ACTION: Notice of Trade Symposium.

SUMMARY: This document announces that U.S. Customs and Border Protection (CBP) will convene its annual trade symposium, featuring panel discussions involving agency personnel, members of the trade community and other government agencies, on the agency's role in international trade initiatives and programs. This year marks our tenth year hosting a trade symposium. Members of the international trade and transportation communities and other interested parties are encouraged to attend.

DATES: Tuesday, December 8, 2009 (opening remarks and panel discussions beginning at 1 p.m. and open forum with senior management (6 p.m.-8 p.m.)). Wednesday, December 9, 2009 (panel discussions—8 a.m.-5 p.m.). Thursday, December 10, 2009 (panel discussions ending by 1 p.m.).

ADDRESSES: The CBP Trade Symposium will be held in a ballroom at the Walter E. Washington Convention Center, 801 Mount Vernon Place, NW., Washington, DC 20001. Upon entry into the building, check with the security guards for directions to the specific ballroom.

FOR FURTHER INFORMATION CONTACT: The Office of Trade Relations at (202) 344-1440, or at tradeevents@dhs.gov. To obtain the latest information on the Symposium and to register on-line, visit the CBP Web site at http://www.cbp.gov. Requests for special needs should be sent to the Office of Trade Relations at tradeevents@dhs.gov.

SUPPLEMENTARY INFORMATION: On November 30, 2000, the U.S. Customs Service (now CBP) convened its first major trade symposium to discuss the agency's programs, strategic plans, and its mission for trade in the 21st century. This year marks our tenth year hosting a trade symposium. The agenda for the 2009 CBP Trade Symposium and the keynote speaker will be announced at a later date on the CBP Web site. The cost is $290.00 per person, and includes all Symposium activities. Interested parties are requested to register early, as space is limited. Registration will open to the public on or about October 1, 2009. All registrations must be made on-line at the CBP Web site (http://www.cbp.gov) and payment will only be accepted by credit card.

Consideration will be given, in a first come, first served order, based on space availability. Due to the overwhelming interest to attend the Symposium, each company is requested to limit their company's registrations to three participants, in order to afford equal representation from all members of the international trade community. If a company exceeds the limitation, any additional names submitted for registration will automatically be placed on the waiting list.

Hotel accommodations have been reserved at the Grand Hyatt Washington, 1000 H Street, NW., Washington, DC. A block of rooms have been reserved for Monday through Thursday, December 7-10, 2009, at the rate of U.S. $214.00 per night. Reservations must be made directly with the hotel by November 9th on-line at https://resweb.passkey.com/Resweb.do?mode=welcome_gi_new&groupID=1500723 or by phoning 202-637-4777.

Dated: September 16, 2009.
Kimberly Marsho,
Director, Office of Trade Relations.

[FR Doc. E9-22678 Filed 9-18-09; 8:45 am]

BILLING CODE 9111-14-P